COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product and service to the Procurement List that will be furnished by nonprofit agencies employing persons who are blind or have other severe disabilities, and deleted products and services previously furnished by such agencies.

DATES: Comments must be received on or before: June 8, 2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

The following product and service are proposed for addition to the Procurement List for production by the nonprofit agencies listed:

Product

Product Name/NSN(s): 9V Alkaline Non-rechargeable Battery/6135-00-900-2139

Mandatory Purchase For: Total Government Requirement

Mandatory Source of Supply: Eastern Carolina Vocational Center, Inc., Greenville, NC

Contracting Activity: Defense Logistics Agency Land and Maritime, Columbus, OH

Distribution: A-List

Service

Service Type: Furniture Design and Configuration Service

Service Is Mandatory For: New Hampshire National Guard

Mandatory Source of Supply: Industries for the Blind Inc., West Allis, WI

Contracting Activity: United States Property and Fiscal Office (USPFO), New Hampshire National Guard, Pease ANGB, NH

Deletions

The following products and services are proposed for deletion from the Procurement List:

Products

Product Name/NSN(s): One Step Tub & Shower Cleaner/MR 584

Mandatory Source of Supply: Winston-Salem Industries for the Blind, Inc., Winston-Salem, NC

Product Name/NSN(s): Brush, Bowl, Hardwood/MR 917

Mandatory Source of Supply: Alabama Industries for the Blind, Talladega, AL

Contracting Activity: Defense Commissary Agency, Fort Lee, VA

Product Name/NSN(s): Card, Guide, File

7530-00-988-6520—1/3 Cut, 1st/3rd Positions Tabs, Legal, Light Green

7530-00-988-6517—1/5 Cut, 1st/5th Positions Tabs, Letter, Light Green

Mandatory Source of Supply: Georgia Industries for the Blind, Bainbridge, GA

Contracting Activity: General Services Administration

Services

Service Type: Janitorial/Custodial Service

Service Purchase For: U.S. Army Reserve Center, 295 Goucher Street: Johnston, Center #1, Johnstown, PA

U.S. Army Reserve Center: Center #2, 1300 St. Clair Road, Johnstown, PA

Johnstown Aviation Support Facility, Airport Road #2, Johnstown, PA

Contracting Activity: Dept of the Army, W6QM MICC Ctr-Ft Dix (RC)

U.S. Marine Corps Reserve Center, 218 Aviation Drive, Johnstown, PA

Contracting Activity: Dept of the Army, W40M Northern Region Contract Ofc

Mandatory Source of Supply: UNKNOWN

Barry S. Lineback,
Director, Business Operations.

[FR Doc. 2015-11128 Filed 5-7-15; 8:45 am]

BILLING CODE 6353-01-P